COMMISSION ON CIVIL RIGHTS

Agenda and Notice of Public Meeting of the New Jersey Advisory Committee

Notice is hereby given, pursuant to the provisions of the rules and regulations of the U.S. Commission on Civil Rights, that a planning meeting with briefing session of the New Jersey Advisory Committee will convene at 10 a.m. and adjourn at 3:30 p.m. on Tuesday, May 4, 2004, at the New Jersey State House Annex, Room 4, 125 W. State Street, Trenton, New Jersey 08625. The Committee will review the status of current activities and plan new projects. For its briefing session, the Committee has invited New Jersey Governor James McGreevey to comment on civil rights protection efforts by state government, to describe state implementation of the Committee's recommendations regarding law enforcement policies and practices, and to respond to the Committee's statement of concern on employment of Asian Americans in State government.

Persons desiring additional information, or planning a presentation to the Committee, should contact Edward Darden of the Eastern Regional Office, 202-376-7533 (TTY 202-376-8116). Hearing-impaired persons who plan to attend the meeting and require the services of a sign language interpreter should contact the Regional Office at least seven (7) working days before the scheduled date of the meeting.

The meeting will be conducted pursuant to the provisions of the rules and regulations of the Commission.

Dated at Washington, DC, April 20, 2004.
Ivy L. Davis,
Chief, Regional Programs Coordination Unit.

[FR Doc. 04-9384 Filed 4-23-04; 8:45 am]

BILLING CODE 6335-01-P